CONSUMER PRODUCT SAFETY COMMISSION

Sunshine Act; Notice of Meeting

Federal Register Citation of Previous Announcement: Vol. 75, No. 58/Friday, March 26, 2010, page 14577.

PREVIOUSLY ANNOUNCED TIME AND DATE OF MEETING: 1 p.m.-3 p.m., Thursday, April 8, 2010.

CHANGES IN MEETING: Agenda Item on Testing and Conformance—Notice of Proposed Rulemaking (NPR) is postponed to April 15, 2010, 9 a.m.-12 Noon.

For a recorded message containing the latest agenda information, call (301) 504-7948.

CONTACT PERSON FOR ADDITIONAL INFORMATION: Todd A. Stevenson, Office of the Secretary, 4330 East West Highway, Bethesda, MD 20814 (301) 504-7923.

Dated: April 7, 2010.
Todd A. Stevenson,
Secretary.

[FR Doc. 2010-8429 Filed 4-8-10; 4:15 pm]

BILLING CODE 6355-01-P